POSTAL SERVICE

39 CFR Part 111

New Intelligent Mail Package Barcode Standards To Enhance Package Visibility; Opportunity for Comments in Advance of Rulemaking

AGENCY: Postal Service™.

ACTION: Request for comments.

SUMMARY: The Postal Service is exploring the advisability of requiring the use of Intelligent Mail® package barcodes (IMpb) or unique tracking Intelligent Mail barcodes (IMb™) on all commercial parcels, and providing support to mailers to assure their ability to apply unique tracking barcodes to all commercial parcels.

DATES: Comments are due on March 28, 2013.

ADDRESSES: Mail or deliver written comments to the manager, Product Classification, U.S. Postal Service, 475 L'Enfant Plaza SW., Room 4446, Washington, DC 20260-5015. You may inspect and photocopy all written comments at USPS® Headquarters Library, 475 L'Enfant Plaza SW., 11th Floor North, Washington, DC, by appointment only between the hours of 9 a.m. and 4 p.m., Monday through Friday. Call 1-202-268-2906 in advance for an appointment. Email comments, containing the name and address of the commenter, may be sent to: MailingStandards@usps.gov, with a subject line of “Package Visibility.” Faxed comments are not accepted.

FOR FURTHER INFORMATION CONTACT: Jeffrey L. Freeman at 202-268-2922 or Kevin Gunther at 202-268-7208.

SUPPLEMENTARY INFORMATION: The Postal Service continues to enhance its operational capability to provide scanning data of IMpb and other tracking barcodes through the use of automated processing equipment and Intelligent Mail scanning devices. The tracking data provided by IMpb, including acceptance, enroute, and delivery status data, will provide value to the Postal Service, to mailers and to their shared customer base.

IMpb can offer a number of additional benefits by providing mailers with access to piece-level visibility throughout the Postal Service's processing and delivery operations. The basic structure of IMpb includes:

• A routing code to facilitate the processing of parcels on automated sorting equipment.

• A channel-specific Application Identifier (AI) that associates the barcode to the payment method, supporting revenue assurance.

• A 3-digit service type code, which identifies the exact mail class and service combination, eliminating the need for multiple barcodes on a parcel.

• An option to use a 6-digit or 9-digit numeric Mailer ID (MID), to accommodate all mailers.

• A serial number that enables uniqueness and supports piece-level visibility.

These features contribute to the data-stream efficiency within USPS® mail processing, delivery, payment, and reporting. Intelligent Mail package barcodes also include specific “mail class only” service type codes that may be used for parcels without extra services.

The mailing industry was first provided notice of the intent of the Postal Service to require the mandatory use of IMpb on all domestic packages via an advanced notice of proposed rulemaking, Federal Register notice (75 FR 56922-56923) on September 17, 2010. In response to input from the mailing community, this broad requirement was narrowed to generally apply only to commercial parcels mailed at presort or destination-entry prices. On January 28, 2013, the Postal Service implemented this initial phase of its IMpb standards by requiring IMpb use, including use of version 1.6 of the electronic shipping services manifest, for all commercial parcels (except Standard Mail parcels) claiming presort or destination-entry pricing.

The Postal Service is now considering the addition, at a future date, of a new requirement for all remaining commercial parcels to bear an IMpb. Mailers of these parcels will also be required to transmit electronic documentation to the Postal Service using version 1.6 (or a newer version) of the Shipping Services Manifest File. If this requirement is adopted, it would apply to all commercial parcels, without regard to presort or entry level, and would generally include commercial parcels of all classes with the exception of Express Mail entered through Express Mail Corporate Account. The Postal Service would expect to implement these new standards on or about July 28, 2013.

Additionally, the Postal Service is investigating alternative processes that would permit some categories of Standard Mail to bear a unique IMb instead of an IMpb. If the Postal Service determines that the use of an IMb is a viable option in these limited circumstances, those mailers using this option will be required to transmit piece-level data to the Postal Service in a Mail.dat or Mail.XML format. Mailers who use the IMb format will not receive delivery scans on their pieces unless they comply with Postal Service requirements for additional identifying marks indicating that confirmation services are requested. The Postal Service is also exploring options to accommodate a modified tracking process for some categories of Standard mail parcels, such as Simple Samples™ and parcels bearing simplified addresses.

Mailers will benefit from the tracking services provided with IMpb, both from improved service performance and from more efficient postal operations. The Postal Service anticipates that the enhancements to parcel visibility following these changes in standards will produce the following benefits:

• Enable customer-level service reporting;

• Support accurate customer volume reporting;

• Provide data for identifying, diagnosing, and correcting service issues;

• Enable the use of scanning technology to reduce distribution costs in delivery units by allowing non-scheme-trained employees to perform parcel distribution to carrier routes, resulting in greater flexibility in staffing and savings on training expenses;

• Provide advance notice of workload to improve planning in processing and delivery operations;

• Support improved understanding of, and opportunities to reduce, postal costs;

If these new standards are adopted, the Postal Service also expects to provide support to its smaller and mid-sized mailers in applying IMpb-compliant labels to every commercial parcel. The Postal Service intends to provide pre-printed IMpb-compliant tracking barcodes to permit imprint and postage meter mailers for use with non-presorted mailings, and to provide tools for Merchandise Return Service (MRS) permit holders to enable their customers to print IMpb-compliant MRS labels online.

To improve piece-level visibility within USPS processing, the Postal Service is investigating the operational feasibility of electronically associating individual parcel tracking numbers with specific sacks, trays, pallets, or similar containers. Depending on the results, the Postal Service may, at a future date, establish a requirement for all commercial parcel mailers to electronically transmit Intelligent Mail tray barcode (IMtb) and Intelligent Mail container barcode (IMcb) nesting data to the Postal Service. Nesting data would be required to be included in the shipment manifest or to be transmitted through another approved electronic documentation method. Recognizing that package mailers have not previously been required to use these barcodes, if this requirement is adopted, the Postal Service will work with the industry to support transitioning to the use of these barcodes, and to determine the proper timing for its implementation.

Stanley F. Mires,
Attorney, Legal Policy & Legislative Advice.

[FR Doc. 2013-04302 Filed 2-25-13; 8:45 am]

BILLING CODE 7710-12-P